DEPARTMENT OF COMMERCE

International Trade Administration

(A-580-816)

Corrosion-Resistant Carbon Steel Flat Products from the Republic of Korea: Notice of Extension of Time Limit for the Final Results of Antidumping Duty Administrative Review

AGENCY: Import Administration, International Trade Administration, Department of Commerce.

FOR FURTHER INFORMATION CONTACT: Victoria Cho at (202) 482-3797, AD/CVD Operations, Office 3, Import Administration, International Trade Administration, U.S. Department of Commerce, 14th Street and Constitution Ave, NW, Washington, DC 20230.

Background

On September 30, 2008, the U.S. Department of Commerce (Department) published a notice of initiation of the administrative review of the antidumping duty order on corrosion-resistant carbon steel flat products from Korea, covering the period August 1, 2007, to July 31, 2008. See Initiation of Antidumping and Countervailing Duty Administrative Reviews and Requests for Revocation in Part, 73 FR 56794, 56796 (September 30, 2008). On September 8, 2009, the Department published the preliminary results of this review. See Certain Corrosion-Resistant Carbon Steel Flat Products from the Republic of Korea: Notice of Preliminary Results of the Antidumping Duty Administrative Review, 74 FR 46110 (September 8, 2009). The final results of this review are currently due no later than January 6, 2010.

Extension of Time Limit of the Final Results

Section 751(a)(3)(A) of the Tariff Act of 1930, as amended (Act), requires the Department to issue the final results of a review within 120 days after the date on which the preliminary results are published. However, if it is not practicable to complete the review within that time period, section 751(a)(3)(A) of the Act allows the Department to extend the time limit for the final results to a maximum of 180 days. See also 19 CFR 351.213(h)(2).

We determine that it is not practicable to complete the final results of this review within the original time limit because an issue concerning of application of quarterly costs in this case arose late in the review and requires additional time for analyses of certain information. Therefore, the Department is fully extending the time limit for the final results. The final results are now due not later than March 7, 2010. As that day falls on a Sunday, the final results are due no later than March 8, 2010. See Notice of Clarification: Application of “Next Business Day” Rule for Administrative Determination Deadlines Pursuant of the Tariff Act of 1930, As Amended, 70 FR 24533 (May 10, 2005).

This extension is in accordance with section 751(a)(3)(A) of the Act and 19 CFR 351.213(h)(2). This notice is published pursuant to section 751(a)(1) and 777(i)(1) of the Act.

Dated: November 6, 2009.
Edward G. Yang,
Acting Deputy Assistant Secretary for Antidumping and Countervailing Duty Operations.

[FR Doc. E9-27445 Filed 11-13-09; 8:45 am]

BILLING CODE 3510-DS-S